DEPARTMENT OF COMMERCE

International Trade Administration

A-427-801, A-428-801, A-475-801, A-588-804, A-412-801

Ball Bearings and Parts Thereof from France, Germany, Italy, Japan, and the United Kingdom: Preliminary Results of Antidumping Duty Administrative Reviews and Intent to Rescind Reviews in Part

AGENCY: Import Administration, International Trade Administration, Department of Commerce.

SUMMARY: In response to requests from interested parties, the Department of Commerce (the Department) is conducting administrative reviews of the antidumping duty orders on ball bearings and parts thereof (ball bearings) from France, Germany, Italy, Japan, and the United Kingdom. The reviews cover 27 manufacturers/exporters. The period of review is May 1, 2006, through April 30, 2007.

We have preliminarily determined that sales have been made below normal value by companies subject to these reviews. If these preliminary results are adopted in our final results of administrative reviews, we will instruct U.S. Customs and Border Protection (CBP) to assess antidumping duties on all appropriate entries.

We invite interested parties to comment on these preliminary results. Parties who submit comments in these reviews are requested to submit with each argument (1) a statement of the issue and (2) a brief summary of the argument.

EFFECTIVE DATE: May 7, 2008.

FOR FURTHER INFORMATION CONTACT: Edythe Artman or Richard Rimlinger, AD/CVD Operations, Office 5, Import Administration, International Trade Administration, U.S. Department of Commerce, 14th Street and Constitution Avenue, NW, Washington, DC 20230; telephone: (202) 482-3931 and (202) 482-4477, respectively.

SUPPLEMENTARY INFORMATION:

Background

On May 15, 1989, the Department published the antidumping duty orders on ball bearings from France, Germany, Italy, Japan, and the United Kingdom in the Federal Register (54 FR 20900). On June 29, 2007, in accordance with 19 CFR 351.213(b), we published a notice of initiation of administrative reviews of 163 companies subject to these orders. See Initiation of Antidumping and Countervailing Duty Administrative Reviews, Request for Revocation in Part and Deferral of Administrative Review, 72 FR 35690 (June 29, 2007).

On January 16, 2008, we extended the due date for the completion of these preliminary results of reviews from January 31, 2008, to April 15, 2008. See Ball Bearings and Parts Thereof From France, Germany, Italy, Japan, and the United Kingdom: Extension of Time Limit for Preliminary Results of Antidumping Duty Administrative Reviews, 73 FR 2887 (January 16, 2008). On April 15, 2008, we extended the due date for the completion of the results from April 15, 2008, to April 30, 2008. See Ball Bearings and Parts Thereof From France, Germany, Italy, Japan, and the United Kingdom: Extension of Time Limit for Preliminary Results of Antidumping Duty Administrative Reviews, 73 FR 21311 (April 21, 2008).

For these administrative reviews, the period of review covered is May 1, 2006, through April 30, 2007. The Department is conducting these administrative reviews in accordance with section 751 of the Tariff Act of 1930, as amended (the Act).

Scope of Orders

The products covered by the orders are ball bearings (other than tapered roller bearings) and parts thereof. These products include all antifriction bearings that employ balls as the rolling element. Imports of these products are classified under the following categories: antifriction balls, ball bearings with integral shafts, ball bearings (including radial ball bearings) and parts thereof, and housed or mounted ball bearing units and parts thereof.

Imports of these products are classified under the following Harmonized Tariff Schedules (HTS) subheadings: 3926.90.45, 4016.93.10, 4016.93.50, 6909.19.5010, 8431.20.00, 8431.39.0010, 8482.10.10, 8482.10.50, 8482.80.00, 8482.91.00, 8482.99.05, 8482.99.35, 8482.99.2580, 8482.99.6595, 8483.20.40, 8483.20.80, 8483.30.40, 8483.30.80, 8483.50.90, 8483.90.20, 8483.90.30, 8483.90.70, 8708.50.50, 8708.60.50, 8708.60.80, 8708.93.30, 8708.93.6000, 8708.99.06, 8708.99.3100, 8708.99.4000, 8708.99.4960, 8708.99.58, 8708.99.8015, 8708.99.8080, 8803.10.00, 8803.20.00, 8803.30.00, 8803.90.30, and 8803.90.90.

As a result of recent changes to the HTS, effective February 2, 2007, the subject merchandise is also classifiable under the following additional HTS item numbers: 8708.30.50.90, 8708.40.75.00, 8708.50.79.00, 8708.50.8900, 8708.50.91.50, 8708.50.99.00, 8708.70.6060, 8708.80.65.90, 8708.93.75.00, 8708.94.75, 8708.95.20.00, 8708.99.55.00, 8708.99.68, 8708.99.81.80.

Although the HTS item numbers above are provided for convenience and customs purposes, the written descriptions of the scope of these orders remain dispositive.

The size or precision grade of a bearing does not influence whether the bearing is covered by one of the orders. These orders cover all the subject bearings and parts thereof (inner race, outer race, cage, rollers, balls, seals, shields, etc.) outlined above with certain limitations. With regard to finished parts, all such parts are included in the scope of these orders. For unfinished parts, such parts are included if they have been heat-treated or if heat treatment is not required to be performed on the part. Thus, the only unfinished parts that are not covered by these orders are those that will be subject to heat treatment after importation. The ultimate application of a bearing also does not influence whether the bearing is covered by the orders. Bearings designed for highly specialized applications are not excluded. Any of the subject bearings, regardless of whether they may ultimately be utilized in aircraft, automobiles, or other equipment, are within the scope of these orders.

For a listing of scope determinations which pertain to the orders, see the “Memorandum to Laurie Parkhill” regarding scope determinations, dated April 30, 2008, which is on file in the Central Records Unit (CRU) of the main Commerce building, room B-099, in the General Issues record (A-100-001) for the 2006-2007 reviews.

Intent to Rescind Reviews in Part

We received a letter, dated June 21, 2007, from a company, Essex Nexans Europe SAS, on behalf its subsidiaries Essex Nexans SAS, Essex Nexans L&K GmbH, and Essex International Ltd., in which it stated that Essex Nexans and its subsidiaries did not manufacture, sell, or ship ball bearings of French, German, Italian, or U.K. origin to the United States during the period of review. We also received letters of no shipments from IKN GmbH and WWC Service-Center GmbH concerning ball bearings from France, Germany, Italy, or the United Kingdom. We have received no comments on the submissions from the three companies. Because we preliminarily find that Essex Nexans Europe SAS and its subsidiaries, IKN GmbH, and WWC Service-Center GmbH had no shipments of subject merchandise during the period of review, we intend to rescind the administrative reviews with respect to these companies. If we continue to find at the time of our final results that they had no shipments of ball bearings from France, Germany, Italy, or the United Kingdom, we will rescind the reviews of these companies.

Selection of Respondents

Due to the large number of companies in the reviews and the resulting administrative burden to review each company for which a request had been made and not withdrawn, the Department exercised its authority to limit the number of respondents selected for the reviews. Where it is not practicable to examine all known exporters/producers of subject merchandise because of the large number of such companies, section 777A(c)(2) of the Act, allows the Department to limit its examination to either a sample of exporters, producers, or types of products that is statistically valid, based on the information available at the time of selection, or exporters and producers accounting for the largest volume of subject merchandise from the exporting country that can be reasonably examined.

Accordingly, in June 2007 we requested information concerning the quantity and value of sales to the United States from the 163 exporters/producers listed in the initiation notice. We received responses from most of the exporters/producers in June and July of 2007. A number of the companies indicated that they had no shipments of the subject merchandise to the United States during the period of review. A number of the companies indicated that they were affiliated with other companies for which we had initiated administrative reviews, and these companies and their affiliates reported their sales to the United States collectively. Some of the companies withdrew their requests for review prior to our selection of respondents for individual examination. Finally, three companies, Christian Feddersen GmbH & Co. KG, Lentz & Schmahl GmbH, and Societe Nexans, for which we initiated reviews subject to the orders on France, Germany, Italy, and the United Kingdom, did not respond to our questionnaire. Based on our analysis of the responses and our available resources, we chose to examine the sales of the following companies:

France:

* SKF France S.A. and SFK Aerospace France S.A.S. (SKF France)

Germany:

* Gebrüder Reinfurt GmbH & Co., KG (GRW)

* SKF GmbH (SKF Germany)

Italy:

* SKF RIV-SKF Officine di Villas Perosa S.p.A.; SKF Industrie S.p.A.; RFT S.p.A.; OMVP S.p.A. (collectively SKF Italy)

Japan:

* JTEKT Corporation (formerly known as Koyo Seiko Co., Ltd.) (JTEKT)

* NTN Corporation (NTN)

United Kingdom:

* The Barden Corporation (UK) Limited; Schaeffler (UK) Ltd. (formerly known as the Barden Corporation (UK) Ltd.; FAG (UK) Ltd. (collectively Barden/FAG)) (collectively Barden/Schaeffler UK)

See order-specific memoranda to Laurie Parkhill regarding respondent selection, dated August 14, 2007, for the detailed analysis of the selection process for each country-specific review.¹

¹ Subsequent to our selection of respondents, two of the U.K. companies, Molins PLC and NSK Bearings Europe, and one of the Japanese companies, NSK Ltd., withdrew their requests for a review and we rescinded the reviews of these companies. See 72 FR 64577 (November 16, 2007).

For the responding companies which remain under review and which we did not select for individual examination, we have either calculated a simple average of the weighted-average margins of the two selected respondents in a review (Japan) or assigned the weighted-average margin of a sole selected respondent in a review (United Kingdom). Thus, based on our preliminary margin calculations, we have calculated a margin of 10.30 percent for non-selected respondents from Japan. See Memorandum to Laurie Parkhill regarding the calculation of a simple-average margin for the Japan proceeding, dated April 30, 2008.

For the U.K. review, while we have applied, for these preliminary results, the rate of 0.28 percent calculated for the sole respondent selected for individual examination, Barden/Schaeffler UK, to the company not individually examined, Rolls Royce, we invite comments from interested parties regarding the methodology to be used to determine the rate for the non-examined company. Specifically, we invite interested parties to comment on the rate to be applied to the non-examined company, considering, but not limited to, the following factors: (a) the Department has limited its examination of respondents pursuant to section 777A(c)(2)(B) of the Act; (b) section 735(c)(5) of the Act provides that, with some exceptions, the all-others rate in an investigation is to be calculated excluding any margins that are zero, de minimis, or based entirely on facts available; (c) the Statement of Administrative Action states that, with respect to the calculation of the all-others rate in such cases, “the expected method will be to weight-average the zero and de minimis margins and margins determined pursuant to the facts available, provided that volume data is available. However, if this method is not feasible, or if it results in an average that would not be reasonably reflective of potential dumping margins for non-investigated exporters or producers, Commerce may use other reasonable methods.” See Statement of Administrative Action accompanying the Uruguay Round Agreements Act, H.R. Doc. No. 103-316, vol.1 (1994) at 870 (SAA) at 873.

Verification

As provided in section 782(i) of the Act, we have verified information provided by Barden/Schaeffler UK in the administrative review of the order on ball bearings from the United Kingdom using standard verification procedures, including the examination of relevant sales and financial records and the selection and review of original documentation containing relevant information. Our verification results are outlined in the public version of our Barden/Schaeffler UK verification report, which is on file in the CRU, room 1117 of the main Department building.

Use of Facts Otherwise Available

For the reasons discussed below, we determine that the use of adverse facts available (AFA) is appropriate for the preliminary results of reviews with respect to four companies.

A. Use of Facts Available

Section 776(a)(2) of the Act provides that, if an interested party withholds information requested by the administering authority, fails to provide such information by the deadlines for submission of the information and in the form or manner requested, subject to subsections (c)(1) and (e) of section 782, significantly impedes a proceeding under this title, or provides such information but the information cannot be verified as provided in 782(i), the administering authority shall use, subject to section 782(d) of the Act, facts otherwise available in reaching the applicable determination. Section 782(d) of the Act provides that, if the administering authority determines that a response to a request for information does not comply with the request, the administering authority shall promptly inform the responding party and, to the extent practicable, provide an opportunity to remedy the deficient submission. If the party fails to remedy the deficiency within the applicable time limits, the Department may, subject to section 782(e) of the Act, disregard all or part of the original and subsequent responses, as appropriate. Section 782(e) of the Act provides that the Department “shall not decline to consider information that is submitted by an interested party and is necessary to the determination but does not meet all the applicable requirements established by the administering authority” if the information is timely, can be verified, and is not so incomplete that it cannot be used, and if the interested party acted to the best of its ability in providing the information. Where all of these conditions are met, the statute requires the Department to use the information, if it can do so without undue difficulties.

As discussed above, in June 2007, we requested information concerning the quantity and value of sales to the United States from each of the exporters/producers listed in the initiation notice for the current reviews. Three companies, Christian Feddersen GmbH & Co. KG, Lentz & Schmahl GmbH, and Societe Nexans, did not respond to our request concerning their sales or exports of ball bearings from France, Italy, Germany and the United Kingdom. Because these companies did not respond to our request, we could neither consider them in our selection of respondents for individual examination nor complete any administrative reviews of the companies. Because these companies have failed to provide the information requested and thus have significantly impeded the respective proceedings, we find that we must base their margins on the use of facts otherwise available. See section 776(a) of the Act.

Additionally, we find that it is appropriate to use facts otherwise available for certain U.S. sales made by SKF Germany for which SKF Germany was not the producer and for which the producer failed to provide cost-of-production (COP) information by the deadline for submission of the information. The Department's practice is to use the actual production costs of unaffiliated suppliers in lieu of the exporter's acquisition costs to calculate COP and constructed value and is extending this practice, where appropriate, to the reviews of the orders on ball bearings. See Ball Bearings and Parts Thereof from France, Germany, Italy, Japan, Singapore, and the United Kingdom: Final Results of Antidumping Duty Administrative Reviews and Rescission of Review in Part, 72 FR 58053 (October 12, 2007) (AFBs 17), and accompanying Decision Memorandum, at Comment 17. See also Notice of Final Results of Antidumping Duty Administrative Review, and Final Determination to Revoke the Order in Part: Individually Quick Frozen Red Raspberries from Chile, 72 FR 70295 (December 11, 2007) (Final-Raspberries from Chile).

SKF Germany's supplier is an interested party because it is a producer of the subject merchandise. See sections 771(9)(A) and 771(28) of the Act. Further, section 771(28) of the Act states that, “{f}or purposes of section 773 of the Act, the term exporter or producer' includes both the exporter of the subject merchandise and the producer of the same subject merchandise to the extent necessary to accurately calculate the total amount incurred and realized for costs, expenses, and profits in connection with production and sales of that merchandise.” Id. In addition, the SAA at 835 explains that “the purpose of section 771(28) . . . is to clarify that where different firms perform the production and selling functions, Commerce may include the costs, expenses, and profits of each firm in calculating cost of production and constructed value.” Id.

On November 6, 2007, we determined that SKF Germany should report the actual COP for bearings it purchased from its largest supplier.² Accordingly, on November 7, 2007, we requested that SKF Germany coordinate with its largest supplier and report the actual COP data for those bearings SKF Germany purchased during the period of review. On November 14, 2007, SKF Germany stated that it had conferred with its supplier and that, for reasons SKF designated as proprietary, its supplier would not be able to provide any cost data for the period of review. On November 28, 2007, we sent a letter to SKF Germany's supplier requesting that it coordinate with SKF Germany and report the actual COP data for those bearings purchased by SKF Germany during the period of review. The response deadline was January 3, 2008. We received no response by the deadline and no extension of the deadline was requested by any party. On January 8, 2008, we received an untimely submission from the supplier which did not include the actual COP for the period of review. On January 31, 2008, consistent with 19 CFR 351.302(d) and 19 CFR 351.104(a)(2), we rejected the supplier's submission as untimely and informed it that we would not consider the information in our final results. On February 1, 2008, the supplier submitted a letter in which, although it acknowledged that it “neglected to submit the requested data by the due date or request an extension to do so,” it requested that we reconsider our decision for rejecting its submission. See Letter to Laurie Parkhill, dated February 1, 2008. On March 3, 2008, we responded to the supplier, reaffirming our decision to reject its COP data as untimely.

² See Memorandum to Laurie Parkhill regarding the calculation of the cost of production and constructed value for merchandise produced by unaffiliated suppliers, dated November 6, 2007.

In accordance with section 776(a)(2)(B) of the Act, if the Department finds that an interested party “fails to provide such information by the deadlines for submission of the information or in the form and manner requested, subject to subsections (c)(1) and (e) of section 782, the administering authority and the Commission shall, subject to section 782(d), use the facts otherwise available in reaching the applicable determination under this title.” Section 782(c)(1) of the Act is not applicable because SKF Germany's supplier did not notify the Department that it would be unable to provide the COP information as requested in our November 28, 2007, letter. Further, sections 782(e) and (d) of the Act are not applicable because the requested information was not submitted by the established deadline. Therefore, pursuant to section 776(a)(2)(B) of the Act, because SKF Germany's supplier did not provide the relevant COP information by the established deadline, we find that use the facts otherwise available is warranted.

In addition, in accordance with section 776(b) of the Act, if the Department finds that “an interested party failed to cooperate by not acting to the best of its ability to comply with a request for information,” an adverse inference may be used in determining the facts otherwise available. Because SKF Germany's supplier, which, as a producer of subject merchandise and an interested party in this proceeding, did not act to the best of its ability by failing to provide the COP information by the deadline, we preliminarily find that it is appropriate to make an adverse inference pursuant to section 776(b) of the Act with respect to the bearings that SKF Germany purchased from that supplier and sold in the United States. Thus, for the sales of those bearings, we have applied an AFA rate in place of rates for those sales that, if we had the cost information, would be based on the normal value of the bearings.

B. Application of Adverse Inferences for Facts Available

In applying the facts otherwise available, section 776(b) of the Act provides that, if the administering authority finds that an interested party has failed to cooperate by not acting to the best of its ability to comply with a request for information from the administering authority, in reaching the applicable determination under this title, the administering authority may use an inference adverse to the interests of that party in selecting from among the facts otherwise available. See, e.g., Final-Raspberries from Chile, 72 FR at 70297; Notice of Preliminary Determination of Sales at Less Than Fair Value, and Postponement of Final Determination: Certain Circular Welded Carbon-Quality Line Pipe From Mexico, 69 FR 59892, 59896 (October 6, 2004).

Adverse inferences are appropriate “to ensure that the party does not obtain a more favorable result by failing to cooperate than if it had cooperated fully.” See Notice of Preliminary Results of Antidumping Duty Administrative Review, Notice of Partial Rescission of Antidumping Duty Administrative Review, Notice of Intent to Revoke in Part: Certain Individually Quick Frozen Red Raspberries from Chile, 72 FR 44112 (August 7, 2007) (Prelim- Raspberries from Chile) (unchanged in Final-Raspberries from Chile, 72 FR at 70297). See also SAA at 870. Further, “affirmative evidence of bad faith on the part of a respondent is not required before the Department may make an adverse inference.” See Antidumping Duties; Countervailing Duties, 62 FR 27296, 27340 (May 19, 1997). See also Nippon Steel Corp. v. United States, 337 F.3d 1373, 1380-84 (CAFC 2003).

Because the non-responding companies Christian Feddersen GmbH & Co. KG, Lentz & Schmahl GmbH, and Societe Nexans - could have provided data concerning the quantity and value of their sales of subject merchandise to the United States during the period of review but did not do so, we determine that they have failed to cooperate by not acting to the best of their ability. See Final Results of Antidumping Duty Administrative Reviews, Rescission of Administrative Reviews in Part, and Determination to Revoke Order in Part: Antifriction Bearings and Parts Thereof From France, Germany, Italy, Japan, Singapore, and the United Kingdom, 69 FR 55574 (September 15, 2004) (AFBs 14). We informed them in our requests for information that, if they did not respond, we may proceed on the basis of the use of the facts available. Therefore, we conclude that the use of an adverse inference is warranted in applying the use of facts otherwise available to these companies.

Furthermore, with respect to SKF Germany and its largest supplier, although we provided SKF Germany's supplier with notice informing it of the consequences of its failure to respond adequately to our request for its COP data (see our November 28, 2007, letter), it did not provide us with the relevant cost data in a timely manner. This constitutes a failure of the supplier to cooperate to the best of its ability to comply with a request for information by the Department within the meaning of section 776(b) of the Act. Further, because we rejected the supplier's submission as untimely, there is no information on the record for us to consider and, therefore, section 782(e) of the Act is not applicable. Based on the above, we have preliminarily determined that SKF Germany's largest supplier, as a producer of subject merchandise, failed to cooperate to the best of its ability and, therefore, in selecting from among the facts otherwise available, an adverse inference is warranted. See Prelim-Raspberries from Chile, 72 FR 44114 (unchanged in Final-Raspberries from Chile, 72 FR at 70297). See also Notice of Preliminary Results of Antidumping Duty Administrative Review, Notice of Intent to Revoke in Part: Individually Quick Frozen Red Raspberries from Chile, 71 FR 45000 (August 8, 2006) (unchanged in Notice of Final Results of Antidumping Duty Administrative Review, and Final Determination to Revoke the Order In Part: Individually Quick Frozen Red Raspberries from Chile (72 FR 6524, February 12, 2007)).

C. Selection and Corroboration of Information Used as Facts Available

As facts available with an adverse inference, we have selected the rates of 66.42 percent for France, 70.41 percent for Germany, 69.99 percent for Italy, and 60.15 percent for the United Kingdom.

Section 776(c) of the Act provides that the Department shall corroborate, to the extent practicable, secondary information used for facts available by reviewing independent sources reasonably at its disposal. Information from a prior segment of the proceeding constitutes secondary information. See SAA at 870. The word “corroborate” means that the Department will satisfy itself that the secondary information to be used has probative value. Id. To corroborate secondary information, the Department will examine, to the extent practicable, the reliability and relevance of the information used. Unlike other types of information such as input costs or selling expenses, however, there are no independent sources for calculated dumping margins. The only source for margins is administrative determinations. Thus, with respect to an administrative review, if the Department chooses as facts available a calculated dumping margin from a prior segment of the proceeding, it is not necessary to question the reliability of the margin for that time period. AFBs 14, 69 FR at 55577. With respect to the relevance aspect of corroboration, the Department will consider information reasonably at its disposal as to whether there are circumstances that would render a margin not relevant. Where circumstances indicate that the selected margin is not appropriate as AFA, the Department will disregard the margin and determine an appropriate margin. See Fresh Cut Flowers from Mexico; Final Results of Antidumping Duty Administrative Review, 61 FR 6812, 6814 (February 22, 1996), where the Department disregarded the highest dumping margin as best information available because the margin was based on another company's uncharacteristic business expense resulting in an unusually high margin.

We find that the rates we are using for these preliminary results have probative value. For France and Italy, we corroborated the highest rates calculated in the respective less-than-fair-value investigations. As there is no information on the record of these reviews that demonstrates that the rates selected are not appropriate AFA rates for the non-responsive firms, we preliminarily determine that the rates of 66.42 percent and 69.99 percent for France and Italy, respectively, have probative value and, therefore, are appropriate rates for use as AFA. For the United Kingdom, while the highest rate calculated in the proceeding was 61.14 percent, in this review we have no transaction-specific margins with which to corroborate this rate. We can corroborate 58.20 percent from the 1996/1997 review of the order (Antifriction Bearings (Other Than Tapered Roller Bearings) and Parts Thereof From France, Germany, Italy, Japan, Romania, Singapore, Sweden, and the United Kingdom; Final Results of Antidumping Duty Administrative Reviews, 63 FR 33320, (June 18, 1998)) because it fell within the range of margins we calculated for this administrative review and, thus, we have selected this rate as the AFA rate for the United Kingdom.

For Germany, the selected AFA rate of 70.41 percent is the highest rate ever calculated for a company in any segment of this proceeding.³ Because the producer of certain merchandise SKF Germany sold to the United States did not provide us with the actual COP data for this review, we examined individual transactions made by SKF Germany of merchandise it purchased from the same supplier in the immediately preceding (2005-06) administrative review and the margins on those transactions in order to determine whether the rate of 70.41 percent was probative. See Preliminary Results of Antidumping Duty Administrative Review: Stainless Steel Wire Rod from the Republic of Korea, 72 FR 32074 (June 11, 2007) (unchanged in Final Results of Antidumping Duty Administrative Review: Stainless Steel Wire Rod from the Republic of Korea, 72 FR 46035 (August 16, 2007)). We found a number of sales with dumping margins falling either above or below the rate of 70.41 percent. Therefore, we preliminarily find that this rate is corroborated to the extent practicable. See Ta Chen Stainless Steel Pipe, Inc. vs. United States, 298 F.3d 1330, 1340 (CAFC 2002) (“Because Commerce selected a dumping margin within the range of Ta Chen's actual sales data, we cannot conclude that Commerce ‘overreached reality’.”).

³ The rate of 70.41 percent is the weighted-average margin we calculated for FAG during the original investigation. See Antidumping Duty Orders: Ball Bearings, Cylindrical Roller Bearings, and Spherical Plain Bearings and Parts Thereof From the Federal Republic of Germany, 54 FR 20900 (May 15, 1989).

For more detail concerning the selection of an AFA rate, see the country-specific Memoranda to Laurie Parkhill regarding corroboration of the respective AFA rates, dated April 30, 2008.

The SKF Group's Acquisition of Bearing Manufacturers

On July 4, 2006, the SKF Group⁴ acquired Somecat S.p.A. (Somecat) in Italy and SNFA S.A.S.U. (SNFA) in France. Both Somecat and SNFA had been revoked previously from the antidumping duty orders covering ball bearings from Italy and France, respectively. See Antifriction Bearings (Other Than Tapered Roller Bearings) and Parts Thereof From France, et al.; Final Results of Antidumping Duty Administrative Reviews and Revocation of Orders in Part, 65 FR 49219, 49221 (August 11, 2000). During the course of these administrative reviews, we have reviewed the changes that have transpired since the acquisition of these companies during the period of review by the SKF Group with respect to ball bearings produced in Italy by Somecat and SKF Italy and ball bearings produced in France by SNFA and SKF France for purposes of determining whether it is appropriate to collapse these companies in our reviews of the respective antidumping duty orders covering this merchandise. Pursuant to 19 CFR 351.401(f)(1), we have preliminarily determined that SKF France and SNFA should not be collapsed for purposes of our antidumping analysis in this review; we have also preliminarily determined that Somecat and SKF Italy should be collapsed for purposes of our antidumping analysis in this review. Due to the business-proprietary nature of these decisions, details are provided in country-specific Memoranda to Laurie Parkhill regarding the collapsing of entities, dated April 30, 2008.

⁴ SKF Italy and SKF France are part of the SKF Group.

The Department normally requests sales and cost data from the entities that the Department determines to collapse in a review. In this case, we have insufficient time to request, obtain, and analyze the necessary sales and cost data to collapse Somecat and SKF Italy fully at this stage of the administrative review. Therefore, we have not asked Somecat and SKF Italy to provide the necessary sales and cost data for this review but we expect to request Somecat and SKF Italy to provide the necessary data for both companies in the next administrative review.

Effective on the publication date of these preliminary results, we will instruct CBP to suspend liquidation and collect a cash deposit of estimated antidumping duties on entries of merchandise produced or exported by Somecat at the weighted-average margin we have calculated for the preliminary results of review for SKF Italy.

Export Price and Constructed Export Price

For the price to the United States, we used export price (EP) or constructed export price (CEP) as defined in sections 772(a) and (b) of the Act, as appropriate. Due to the extremely large volume of U.S. transactions that occurred during the period of review and the resulting administrative burden involved in calculating individual margins for all of these transactions, we sampled CEP sales in accordance with section 777A of the Act. When a firm made more than 10,000 CEP sales transactions to the United States of merchandise subject to a particular order, we reviewed CEP sales that occurred during sample weeks. We selected one week from each two-month period in the review period, for a total of six weeks, and analyzed each transaction made in those six weeks. The sample weeks are as follows: May 14, 2006 - May 20, 2006; July 2, 2006 - July 8, 2006; October 22, 2006 - October 28, 2006; December 10, 2006 - December 16, 2006; January 21, 2007 - January 27, 2007; April 1, 2006 - April 7, 2006. We reviewed all EP sales transactions the respondents made during the period of review.

We calculated EP and CEP based on the packed F.O.B., C.I.F., or delivered price to unaffiliated purchasers in, or for exportation to, the United States. We made deductions, as appropriate, for discounts and rebates. We also made deductions for any movement expenses in accordance with section 772(c)(2)(A) of the Act.

Consistent with section 772(d)(1) of the Act and the SAA at 823-824, we calculated the CEP by deducting selling expenses associated with economic activities occurring in the United States, which includes commissions, direct selling expenses, and U.S. repacking expenses. In accordance with section 772(d)(1) of the Act, we also deducted those indirect selling expenses associated with economic activities occurring in the United States and the profit allocated to expenses deducted under section 772(d)(1) in accordance with sections 772(d)(3) and 772(f) of the Act. In accordance with section 772(f) of the Act, we computed profit based on the total revenues realized on sales in both the U.S. and home markets, less all expenses associated with those sales. We then allocated profit to expenses incurred with respect to U.S. economic activity based on the ratio of total U.S. expenses to total expenses for both the U.S. and home markets. Finally, we made an adjustment for profit allocated to these expenses in accordance with section 772(d)(3) of the Act.

With respect to subject merchandise to which value was added in the United States prior to sale to unaffiliated U.S. customers, e.g., parts of bearings that were imported by U.S. affiliates of foreign exporters and then further processed into other products which were then sold to unaffiliated parties, we determined that the special rule for merchandise with value added after importation under section 772(e) of the Act applied to all firms that added value in the United States.

Section 772(e) of the Act provides that, when the subject merchandise is imported by an affiliated person and the value added in the United States by the affiliated person is likely to exceed substantially the value of the subject merchandise, we shall determine the CEP for such merchandise using the price of identical or other subject merchandise sold by the exporter or producer to an unaffiliated customer if there is a sufficient quantity of sales to provide a reasonable basis for comparison and we determine that the use of such sales is appropriate. If there is not a sufficient quantity of such sales or if we determine that using the price of identical or other subject merchandise is not appropriate, we may use any other reasonable basis to determine the CEP.

To determine whether the value added is likely to exceed substantially the value of the subject merchandise, we estimated the value added based on the difference between the averages of the prices charged to the first unaffiliated purchaser for the merchandise as sold in the United States and the averages of the prices paid for the subject merchandise by the affiliated purchaser. Based on this analysis, we determined that the estimated value added in the United States by the further-manufacturing firms accounted for at least 65 percent of the price charged to the first unaffiliated customer for the merchandise as sold in the United States. See 19 CFR 351.402(c) for an explanation of our practice on this issue. Therefore, we preliminarily determine that the value added is likely to exceed substantially the value of the subject merchandise for SKF France, SKF Germany, SKF Italy, JTEKT, NTN, and Barden/Schaeffler UK. Also, for these firms, we determine that there was a sufficient quantity of sales remaining to provide a reasonable basis for comparison and that the use of these sales is appropriate. For analysis of the further-manufactured sales, see the company-specific analysis memoranda, dated April 30, 2008. Accordingly, for purposes of determining dumping margins for the sales subject to the special rule, we have used the weighted-average dumping margins calculated on sales of identical or other subject merchandise sold to unaffiliated persons.

For the calculation of NTN's dumping margin, we did not include any zero-priced transactions in our analysis and there was no other record evidence indicating that NTN received consideration for these transactions; we did include in our analysis the so-called “sample” sales where NTN did receive compensation. In addition, based on NTN's response to our supplemental questionnaire, we calculated a direct selling expense for NTN's EP sales, attributable to the provision of technical support and other selling-support functions to NTN's EP customer by NTN's U.S. affiliate. Furthermore, we accounted for NTN's re-calculation of its re-packing expense with respect to its reported CEP sales to capture differences in expenses associated with packing materials, packing labor, and packing labor overhead inherent in packing requirements with respect to different customer categories. We also accounted for NTN's re-calculation of its inventory carrying costs incurred in Japan for NTN's EP and CEP sales that it submitted in its response to our supplemental questionnaire. Pursuant to a supplemental questionnaire, NTN provided us with factors that we used to recalculate the EP expenses, repacking, and inventory carrying costs.

There were no other claimed or allowed adjustments to EP or CEP sales by other respondents.

Home-Market Sales

Based on a comparison of the aggregate quantity of home-market and U.S. sales and absent any information that a particular market situation in the exporting country did not permit a proper comparison, we determined that the quantity of foreign like product sold by all respondents in the exporting country was sufficient to permit a proper comparison with the sales of the subject merchandise to the United States, pursuant to section 773(a)(1) of the Act. Each company's quantity of sales in its home market was greater than five percent of its sales to the U.S. market. Therefore, in accordance with section 773(a)(1)(B)(i) of the Act, we based normal value on the prices at which the foreign like product was first sold for consumption in the exporting country in the usual commercial quantities and in the ordinary course of trade and, to the extent practicable, at the same level of trade as the EP or CEP sales.

Due to the extremely large number of home-market transactions that occurred during the period of review and the resulting administrative burden involved in examining all of these transactions, we sampled sales to calculate normal value in accordance with section 777A of the Act. When a firm had more than 10,000 home-market sales transactions on a country-specific basis, we used sales in sample months that corresponded to the sample weeks which we selected for U.S. CEP sales, sales in a month prior to the period of review, and sales in the month following the period of review. The sample months were February, May, July, October, and December 2006 and January, April, and May 2007.

The Department may calculate normal value based on a sale to an affiliated party only if it is satisfied that the price to the affiliated party is comparable to the price at which sales are made to parties not affiliated with the exporter or producer, i.e., sales at arm's-length prices. See 19 CFR 351.403(c). We excluded sales to affiliated customers for consumption in the home market that we determined not to be arm's-length prices from our analysis. To test whether these sales were made at arm's-length prices, we compared the prices of sales of comparable merchandise to affiliated and unaffiliated customers, net of all rebates, movement charges, direct selling expenses, and packing. Pursuant to 19 CFR 351.403(c) and in accordance with our practice, when the prices charged to an affiliated party were, on average, between 98 and 102 percent of the prices charged to unaffiliated parties for merchandise comparable to that sold to the affiliated party, we determined that the sales to the affiliated party were at arm's-length prices. See Antidumping Proceedings: Affiliated Party Sales in the Ordinary Course of Trade, 67 FR 69186 (November 15, 2002). We included in our calculation of normal value those sales to affiliated parties that were made at arm's-length prices.

Cost of Production

In accordance with section 773(b) of the Act, we disregarded below-cost sales in the 2005-2006 reviews with respect to ball bearings produced in the respective countries and sold by the following firms: SKF France; SKF Germany, GRW (Germany); SKF Italy; JTEKT, NTN (Japan); Barden/Schaeffler UK. See AFBs 17, 72 FR at 58054. These reviews represent the last completed segment for each respondent selected for individual examination. Therefore, for the instant review, we have reasonable grounds to believe or suspect that sales of the foreign like product under consideration for the determination of normal value in these reviews may have been made at prices below the COP, as provided by section 773(b)(2)(A)(ii) of the Act. Pursuant to section 773(b)(1) of the Act, we conducted COP investigations of sales by these firms in the respective home markets.

In accordance with section 773(b)(3) of the Act, we calculated the COP based on the sum of the costs of materials and fabrication employed in producing the foreign like product, the selling, general, and administrative (SG&A) expenses, and all costs and expenses incidental to packing the merchandise. In our COP analysis, we used the home-market sales and COP information provided by each respondent in its questionnaire responses.

After calculating the COP and in accordance with section 773(b)(1) of the Act, we tested whether home-market sales of the foreign like product were made at prices below the COP within an extended period of time in substantial quantities and whether such prices permitted the recovery of all costs within a reasonable period of time. We compared model-specific COPs to the reported home-market prices less any applicable movement charges, discounts, and rebates.

Pursuant to section 773(b)(2)(C) of the Act, when less than 20 percent of a respondent's sales of a given product were at prices less than the COP, we did not disregard any below-cost sales of that product because the below-cost sales were not made in substantial quantities within an extended period of time. When 20 percent or more of a respondent's sales of a given product during the period of review were at prices less than the COP, we disregarded the below-cost sales because they were made in substantial quantities within an extended period of time pursuant to sections 773(b)(2)(B) and (C) of the Act and because, based on comparisons of prices to weighted-average COPs for the period of review, we determined that these sales were at prices which would not permit recovery of all costs within a reasonable period of time in accordance with section 773(b)(2)(D) of the Act. See the analysis memoranda for SKF France, SKF Germany, GRW, SKF Italy, JTEKT, NTN, and Barden/Schaeffler UK, dated April 30, 2008. Based on this test, we disregarded below-cost sales with respect to SKF France, SKF Germany, GRW, SKF Italy, JTEKT, NTN, and Barden/Schaeffler UK.

Model-Match Methodology

For all respondents, we compared U.S. sales with sales of the foreign like product in the home market. Specifically, in making our comparisons, we used the following methodology. If an identical home-market model was reported, we made comparisons to weighted-average home-market prices that were based on all sales which passed the COP test of the identical product during the relevant month. We calculated the weighted-average home-market prices on a level of trade-specific basis. If there were no contemporaneous sales of an identical model, we identified the most similar home-market model. To determine the most similar model, we limited our examination to models sold in the home market that had the same bearing design, load direction, number of rows, and precision grade. Next, we calculated the sum of the deviations (expressed as a percentage of the value of the U.S. characteristics) of the inner diameter, outer diameter, width, and load rating for each potential home-market match and selected the bearing with the smallest sum of the deviations. If two or more bearings had the same sum of the deviations, we selected the model that was sold at the same level of trade as the U.S. sale and was the closest contemporaneous sale to the U.S. sale. If two or more models were sold at the same level of trade and were sold equally contemporaneously, we selected the model that had the smallest difference-in-merchandise adjustment. Finally, if no bearing sold in the home market had a sum of the deviations that was less than 40 percent, we concluded that no appropriate comparison existed in the home market and we used the constructed value of the U.S. model as normal value. For a full discussion of the model-match methodology for these reviews, see Ball Bearings and Parts Thereof from France, Germany, Italy, Japan, Singapore, and the United Kingdom: Final Results of Antidumping Duty Administrative Reviews, 70 FR 54711 (September 16, 2005) (AFBs 15), and the accompanying Issues and Decision Memorandum at Comments 2, 3, and 5 and Antifriction Bearings and Parts Thereof from France, et al.: Preliminary Results and Partial Rescission of Antidumping Duty Administrative Reviews, 70 FR 25538, 25542 (May 13, 2005).

Normal Value

Home-market prices were based on the packed, ex-factory, or delivered prices to affiliated or unaffiliated purchasers. When applicable, we made adjustments for differences in packing and for movement expenses in accordance with sections 773(a)(6)(A) and (B) of the Act. We also made adjustments for differences in cost attributable to differences in physical characteristics of the merchandise pursuant to section 773(a)(6)(C)(ii) of the Act and 19 CFR 351.411 and for differences in circumstances of sale in accordance with section 773(a)(6)(C)(iii) of the Act and 19 CFR 351.410. For comparisons to EP, we made circumstance-of-sale adjustments by deducting home-market direct selling expenses from, and adding U.S. direct selling expenses to, normal value. For comparisons to CEP, we made circumstance-of-sale adjustments by deducting home-market direct selling expenses from normal value. We also made adjustments, when applicable, for home-market indirect selling expenses to offset U.S. commissions in EP and CEP calculations.

For NTN's sales of samples in the home market, we have determined that these sales were made outside the ordinary course of trade and have excluded them from our calculation of normal value. Furthermore, we accounted for NTN's re-calculation of its packing expense for reported home-market sales to capture differences in expenses associated with packing materials inherent in packing requirements with respect to different customer categories. In addition, we accounted for NTN's re-calculation of its inventory carrying costs incurred in the home market for its home-market sales that it submitted in its response to our supplemental questionnaire.

For JTEKT, consistent with prior reviews, we denied certain negative home-market billing adjustments that JTEKT granted on a model-specific basis but reported on a broad customer-specific basis. See, e.g., AFBs 14, and the accompanying Issues and Decision Memorandum at Comment 21, and Ball Bearings and Parts Thereof from France, Germany, Italy, Japan, Singapore, and the United Kingdom: Preliminary Results of Antidumping Duty Administrative Reviews and Intent to Rescind Review in Part, 72 FR 31271 (June 6, 2007) (Preliminary AFBs 17) at 72 FR 31275, unchanged in AFBs 17.

In the two most recent administrative reviews of JTEKT, we examined the relationship between JTEKT and one of its affiliated home-market firms and determined that it was appropriate to collapse the two companies as one entity. See, e.g., AFBs 16 at Comment 18 and Preliminary AFBs 17, 72 FR at 31275, unchanged in AFBs 17. Upon examining the relationship between the two companies in this review, we have determined that it is appropriate to continue to collapse these two companies. See the preliminary analysis memorandum for JTEKT, dated April 30, 2008, for further details that include reference to JTEKT's business-proprietary information.

Finally, with respect to JTEKT, consistent with our determination in AFBs 17 (see the final analysis memorandum for JTEKT, dated October 4, 2007, at page 2), we revised its calculation of inventory carrying costs (ICCs) incurred in the home market so that the ICCs for home-market sales are calculated on the same basis as the ICCs for U.S. sales. See the preliminary analysis memorandum for JTEKT, dated April 30, 2008, for details of this recalculation.

In accordance with section 773(a)(1)(B)(i) of the Act, we based normal value, to the extent practicable, on sales at the same level of trade as the EP or CEP. If normal value was calculated at a different level of trade, we made an adjustment, if appropriate and if possible, in accordance with section 773(a)(7)(A) of the Act. See the “Level of Trade” section below.

Constructed Value

In accordance with section 773(a)(4) of the Act, we used constructed value as the basis for normal value when there were no usable sales of the foreign like product in the comparison market. We calculated constructed value in accordance with section 773(e) of the Act. We included the cost of materials and fabrication, SG&A expenses, U.S. packing expenses, and profit in the calculation of constructed value. In accordance with section 773(e)(2)(A) of the Act, we based SG&A expenses and profit on the amounts incurred and realized by each respondent in connection with the production and sale of the foreign like product in the ordinary course of trade for consumption in the home market.

When appropriate, we made adjustments to constructed value in accordance with section 773(a)(8) of the Act, 19 CFR 351.410, and 19 CFR 351.412 for circumstance-of-sale differences and level-of-trade differences. For comparisons to EP, we made circumstance-of-sale adjustments by deducting home-market direct selling expenses from and adding U.S. direct selling expenses to constructed value. For comparisons to CEP, we made circumstance-of-sale adjustments by deducting home-market direct selling expenses from constructed value. We also made adjustments, when applicable, for home-market indirect selling expenses to offset U.S. commissions in EP and CEP comparisons.

When possible, we calculated constructed value at the same level of trade as the EP or CEP. If constructed value was calculated at a different level of trade, we made an adjustment, if appropriate and if possible, in accordance with sections 773(a)(7) and (8) of the Act.

Level of Trade

To the extent practicable, we determined normal value for sales at the same level of trade as the U.S. sales (either EP or CEP). When there were no sales at the same level of trade, we compared U.S. sales to home-market sales at a different level of trade. The normal-value level of trade is that of the starting-price sales in the home market. When normal value is based on constructed value, the level of trade is that of the sales from which we derived SG&A and profit.

To determine whether home-market sales are at a different level of trade than U.S. sales, we examined stages in the marketing process and selling functions along the chain of distribution between the producer and the unaffiliated customer. If the comparison-market sales were at a different level of trade from that of a U.S. sale and the difference affected price comparability, as manifested in a pattern of consistent price differences between the sales on which normal value is based and comparison-market sales at the level of trade of the export transaction, we made a level-of-trade adjustment under section 773(a)(7)(A) of the Act. See, e.g., Notice of Final Determination of Sales at Less Than Fair Value: Certain Cut-to-Length Carbon Steel Plate from South Africa, 62 FR 61731, 61732 (November 19, 1997).

Where the respondent reported no home-market levels of trade that were equivalent to the CEP level of trade and where the CEP level of trade was at a less advanced stage than any of the home-market levels of trade, we were unable to calculate a level-of-trade adjustment based on the respondent's home-market sales of the foreign like product. Furthermore, we have no other information that provides an appropriate basis for determining a level-of-trade adjustment. For respondents' CEP sales, to the extent possible, we determined normal value at the same level of trade as the U.S. sale to the first unaffiliated customer and made a CEP-offset adjustment in accordance with section 773(a)(7)(B) of the Act. The CEP-offset adjustment to normal value was subject to the so-called “offset cap”, calculated as the sum of home-market indirect selling expenses up to the amount of U.S. indirect selling expenses deducted from CEP (or, if there were no home-market commissions, the sum of U.S. indirect selling expenses and U.S. commissions).

For a company-specific description of our level-of-trade analyses for these preliminary results, see Memorandum to Laurie Parkhill entitled “Ball Bearings and Parts Thereof from Various Countries: 2006/2007 Level-of-Trade Analysis,” dated April 30, 2008, on file in the CRU, room 1117.

Preliminary Results of Reviews

As a result of our reviews, we preliminarily determine that the following percentage weighted-average dumping margins on ball bearings and parts thereof from various countries exist for the period May 1, 2006, through April 30, 2007:

France
Company | Margin (percent)
Christian Feddersen GmbH & Co. KG | 66.42
Lentz & Schmahl GmbH | 66.42
SKF France | 11.17
Societe Nexans | 66.42

Germany
Company | Margin
Christian Feddersen GmbH & Co. KG | 70.41
GRW | 0.12
Lentz & Schmahl GmbH | 70.41
SKF Germany | 12.41
Societe Nexans | 70.41

Italy
Company | Margin
Christian Feddersen GmbH & Co. KG | 69.99
Lentz & Schmahl GmbH | 69.99
SKF Italy (and Somecat) | 7.06
Societe Nexans | 69.99

Japan
Company | Margin
Aisin Seiki Company, Ltd. | 10.30
Canon, Inc | 10.30
JTEKT | 8.02
Nachi-Fujikoshi Corp. | 10.30
Nippon Pillow Block Company Ltd. | 10.30
NTN | 12.58
Sapporo Precision, Inc | 10.30
Toyota Motor Corp./Toyota Industries Corp. | 10.30
Yamazaki Mazak Trading Company | 10.30

United Kingdom
Company | Margin
Barden/Schaeffler UK | 0.28
Christian Feddersen GmbH & Co. KG | 58.20
Lentz & Schmahl GmbH | 58.20
Rolls Royce PLC | 0.28
Societe Nexans | 58.20

Comments

We will disclose the calculations used in our analysis to parties to these reviews within five days of the date of publication of this notice. Any interested party may request a hearing within 30 days of the date of publication of this notice. A general-issues hearing, if requested, and any hearings regarding issues related solely to specific countries, if requested, will be held at the main Department building at times and locations to be determined.

Interested parties who wish to request a hearing or to participate if one is requested must submit a written request to the Assistant Secretary for Import Administration within 30 days of the date of publication of this notice. Requests should contain the following: (1) the party's name, address, and telephone number; (2) the number of participants; (3) a list of issues to be discussed. See 19 CFR 351.310(c).

Issues raised in hearings will be limited to those raised in the respective case and rebuttal briefs. Case briefs from interested parties and rebuttal briefs, limited to the issues raised in the respective case briefs, may be submitted not later than the dates shown below for general issues and the respective country-specific reviews. Parties who submit case briefs or rebuttal briefs in these proceedings are requested to submit with each argument (1) a statement of the issue and (2) a brief summary of the argument. Parties are also encouraged to provide a summary of the arguments not to exceed five pages and a table of statutes, regulations, and cases cited.

Case | Briefs due | Rebuttals due
General Issues | June 11, 2008 | June 18, 2008
France | June 12, 2008 | June 19, 2008
Germany | June 13, 2008 | June 20, 2008
Italy | June 16, 2008 | June 23, 2008
Japan | June 17, 2008 | June 24, 2008
United Kingdom | June 18, 2008 | June 25, 2008

The Department will issue the final results of these administrative reviews, including the results of its analysis of issues raised in any such written briefs or at the hearings, if held, not later than 120 days after the date of publication of this notice.

Assessment Rates

The Department shall determine, and CBP shall assess, antidumping duties on all appropriate entries. In accordance with 19 CFR 351.212(b)(1), we have calculated, whenever possible, an exporter/importer (or customer)-specific assessment rate or value for merchandise subject to these reviews as described below. We will issue instructions to CBP 15 days after publication of the final results of these reviews.

The Department clarified its “automatic assessment” regulation on May 6, 2003. See Antidumping and Countervailing Duty Proceedings: Assessment of Antidumping Duties, 68 FR 23954 (May 6, 2003) (Assessment of Antidumping Duties). This clarification will apply to entries of subject merchandise during the period of review produced by companies included in these preliminary results of reviews for which the reviewed companies did not know their merchandise was destined for the United States. In such instances, we will instruct CBP to liquidate unreviewed entries at the all-others rate if there is no rate for the intermediate company(ies) involved in the transaction. For a full discussion of this clarification, see Assessment of Antidumping Duties.

For the responsive companies which were not selected for individual review, we will instruct CBP to apply the rates listed above to all entries of subject merchandise from such firms.

For companies for which we are relying on total AFA to establish a dumping margin, we will instruct CBP to apply the assigned dumping margins to all entries of subject merchandise during the POR that were produced or exported by the companies.

Export-Price Sales

With respect to EP sales, for these preliminary results, we divided the total dumping margins (calculated as the difference between normal value and EP) for each exporter's importer or customer by the total number of units the exporter sold to that importer or customer. We will direct CBP to assess the resulting per-unit dollar amount against each unit of merchandise in each of that importer's/customer's entries under the relevant order during the review period.

Constructed Export-Price Sales

For CEP sales (sampled and non-sampled), we divided the total dumping margins for the reviewed sales by the total entered value of those reviewed sales for each importer. We will direct CBP to assess the resulting percentage margin against the entered customs values for the subject merchandise on each of that importer's entries under the relevant order during the review period. See 19 CFR 351.212(b).

Cash-Deposit Requirements

In order to derive a single weighted-average margin for each respondent, we weight-averaged the EP and CEP weighted-average deposit rates (using the EP and CEP, respectively, as the weighting factors). To accomplish this when we sampled CEP sales, we first calculated the total dumping margins for all CEP sales during the review period by multiplying the sample CEP margins by the ratio of total days in the review period to days in the sample weeks. We then calculated a total net value for all CEP sales during the review period by multiplying the sample CEP total net value by the same ratio. Finally, we divided the combined total dumping margins for both EP and CEP sales by the combined total value for both EP and CEP sales to obtain the deposit rate.

Furthermore, the following deposit requirements will be effective upon publication of the notice of final results of administrative reviews for all shipments of ball bearings and parts thereof entered, or withdrawn from warehouse, for consumption on or after the date of publication, as provided by section 751(a)(1) of the Act: (1) the cash-deposit rates for the reviewed companies will be the rates established in the final results of reviews; (2) for previously reviewed or investigated companies not listed above, the cash-deposit rate will continue to be the company-specific rate published for the most recent period; (3) if the exporter is not a firm covered in these reviews, a prior review, or the less-than-fair-value investigations but the manufacturer is, the cash-deposit rate will be the rate established for the most recent period for the manufacturer of the merchandise; (4) the cash-deposit rate for all other manufacturers or exporters will continue to be the all-others rate for the relevant order made effective by the final results of review published on July 26, 1993. See Antifriction Bearings (Other Than Tapered Roller Bearings) and Parts Thereof From France, et al; Final Results of Antidumping Duty Administrative Reviews and Revocation in Part of an Antidumping Duty Order, 58 FR 39729, 39730 (July 26, 1993). For ball bearings from Italy, see Antifriction Bearings (Other Than Tapered Roller Bearings) and Parts Thereof From France, et al; Final Results of Antidumping Duty Administrative Reviews and Partial Termination of Administrative Reviews, 61 FR 66472, 66521 (December 17, 1996). These rates are the all-others rates from the relevant less-than-fair-value investigations. These deposit requirements, when imposed, shall remain in effect until further notice.

Effective the publication date of these preliminary results, we will instruct CBP to suspend liquidation and collect a cash deposit of estimated antidumping duties on entries of merchandise produced or exported by Somecat at the weighted-average margin we have calculated for the preliminary results of review for SKF Italy.

Notification to Importer

This notice also serves as a preliminary reminder to importers of their responsibility under 19 CFR 351.402(f) to file a certificate regarding the reimbursement of antidumping duties prior to liquidation of the relevant entries during this review period. Failure to comply with this requirement could result in the Department's presumption that reimbursement of antidumping duties occurred and the subsequent assessment of doubled antidumping duties.

These preliminary results of administrative reviews are issued and published in accordance with sections 751(a)(1) and 777(i)(1) of the Act.

Dated: April 30, 2008.
David M. Spooner,
Assistant Secretary for Import Administration.

[FR Doc. E8-10078 Filed 5-7-08; 8:45 am]

BILLING CODE 3510-DS-S